NATIONAL CREDIT UNION ADMINISTRATION

Agency Information Collection Activities: Proposed Collection; Comment Request

AGENCY: National Credit Union Administration (NCUA).

ACTION: Notice and request for comment.

SUMMARY: The National Credit Union Administration (NCUA), as part of a continuing effort to reduce paperwork and respondent burden, invites the general public and other federal agencies to take this opportunity to comment on the following extensions of a currently approved information collections, as required by the Paperwork Reduction Act of 1995.

DATES: Written comments should be received on or before September 24, 2018 to be assured consideration.

ADDRESSES: Send comments regarding the burden estimates, or any other aspect of the information collection, including suggestions for reducing the burden to Dawn Wolfgang, National Credit Union Administration, 1775 Duke Street, Suite 5080, Alexandria, Virginia 22314; Fax No. 703-519-8572; or Email at PRAComments@NCUA.gov.

FOR FURTHER INFORMATION CONTACT: Requests for additional information should be directed to the address above or telephone 703-548-2279.

SUPPLEMENTARY INFORMATION:

OMB Number: 3133-0117.

Type of Review: Revision of a currently approved collection.

Title: Designation of Low Income Status, 12 CFR 701.34(a).

Abstract: The Federal Credit Union Act (12 U.S.C. 1752(5)) authorizes the NCUA Board to define low-income members so that credit unions with a membership serving predominantly low-income members can benefit from certain statutory relief and receive assistance from the Community Development Revolving Loan Fund. To utilize this authority a credit union must receive a low-income designation from NCUA as defined in NCUA's regulations at 12 CFR 701.34. NCUA uses the information from credit unions to determine whether they meet the criteria for the low-income designation.

Affected Public: Private Sector: Not-for-profit institutions.

Estimated Number of Respondents: 252.

Estimated Number of Responses per Respondent: 1.

Estimated Total Annual Reponses: 252.

Estimated Burden Hours per Response: 1.20.

Estimated Total Annual Burden Hours: 303.

Reason for Change: The burden associated with the appeals process has been consolidate under 12 CFR 746-B and has been removed from this information collection.

OMB Number: 3133-0121.

Type of Review: Extension of a currently approved collection.

Title: Notice of Change of Officials and Senior Executive Officers.

Forms: NCUA Form 4063 and 4063a.

Abstract: In order to comply with statutory requirements, the agency must obtain sufficient information from new officials or senior executive officers of troubled or newly chartered credit unions to determine their fitness for the position. This is established by the Financial Institutions Reform, Recovery, and Enforcement Act of 1989 (FIRREA) (Pub. L. 101-73). The forms provide a standardize format to collect the information needed.

Affected Public: Private Sector: Not-for-profit institutions; Individual or Household.

Estimated Number of Respondents: 219.

Estimated Number of Responses per Respondent: Individual 1; Credit Union 1.21.

Estimated Total Annual Reponses: 483.

Estimated Burden Hours per Response: 1.83.

Estimated Total Annual Burden Hours: 884.

OMB Number: 3133-0154.

Type of Review: Extension of a currently approved collection.

Title: Prompt Corrective Action, 12 CFR 702 (Subparts A-D).

Abstract: Section 216 of the Federal Credit Union Act (12 U.S.C. 1790d) mandates prompt corrective action (PCA) requirements for federally insured credit unions (FICUs) that become less than well capitalized. Section 216 requires the NCUA Board to (1) adopt, by regulation, a system of prompt corrective action to restore the net worth of inadequately capitalized FICUs; and (2) develop an alternative system of prompt corrective action for new credit unions that carries out the purpose of PCA while allowing an FICU reasonable time to build its net worth to an adequately capitalized level. Part 702 implements the statutory requirements. The purpose of PCA is to resolve the problems of FICUs at the least possible long-term loss to the National Credit Union Share Insurance Fund (NCUSIF).

Affected Public: Private Sector: Not-for-profit institutions.

Estimated Number of Respondents: 642.

Estimated Number of Responses per Respondent: 1.

Estimated Total Annual Reponses: 642.

Estimated Burden Hours per Response: 5.99.

Estimated Total Annual Burden Hours: 3,847.

OMB Number: 3133-0192.

Type of Review: Extension of a currently approved collection.

Title: Involuntary Liquidation Proof of Claim Form.

Form: NCUA Form 7250.

Abstract: In accordance with 12 CFR part 709, the NCUA is appointed liquidating agent of a credit union when the credit union is placed into involuntary liquidation. Section 709.6 instructs creditors to present a written claim to the liquidating agent by the date specified in the notice to creditors. Those creditors making a claim must document their claim in writing and submit a form to the liquidating agent. In addition, the liquidating agent may require a claimant to submit supplemental evidence to support its claim. This collection of information is necessary to protect the National Credit Union Share Insurance Fund in determining valid claims.

Affected Public: Private Sector: Not-for-profit institutions.

Estimated Number of Respondents: 200.

Estimated Number of Responses per Respondent: 1.10.

Estimated Total Annual Responses: 220.

Estimated Burden Hours per Response: 1.

Estimated Total Annual Burden Hours: 220.

Request for Comments: Comments submitted in response to this notice will be summarized and included in the request for Office of Management and Budget approval. All comments will become a matter of public record. The public is invited to submit comments concerning: (a) Whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on July 19, 2018.
Dated: July 19, 2018.
Dawn D. Wolfgang,
NCUA PRA Clearance Officer.

[FR Doc. 2018-15796 Filed 7-23-18; 8:45 am]

BILLING CODE 7535-01-P